DEPARTMENT OF HOMELAND SECURITY

Federal Emergency Management Agency

[Docket ID FEMA-2020-0016]

Meetings To Implement Pandemic Response Voluntary Agreement Under Section 708 of the Defense Production Act

AGENCY: Federal Emergency Management Agency, Department of Homeland Security.

ACTION: Announcement of meetings; correction.

SUMMARY: The Federal Emergency Management Agency (FEMA) published a document in the Federal Register of June 2, 2022, concerning an announcement of meetings to implement the Voluntary Agreement for the Manufacture and Distribution of Critical Healthcare Resources Necessary to Respond to a Pandemic. The document incorrectly listed certain meeting dates.

FOR FURTHER INFORMATION CONTACT: Kathy Hill, Office of Business, Industry, and Infrastructure Integration, via email at OB3I@fema.dhs.gov or via phone at (202) 212-1666.

SUPPLEMENTARY INFORMATION:

Correction

In the Federal Register of June 2, 2022, in FR Doc. 2022-11842 on page 33498, correct the DATES to read:

DATES:

• Thursday, June 2, 2022, from 2:00 p.m. to 3:00 p.m. Eastern Time (ET).

• Thursday, June 16, 2022, from 1:30 p.m. to 2:30 p.m. ET.

• Thursday, June 23, 2022, from 1:30 p.m. to 2:30 p.m. ET.

• Thursday, June 30, 2022, from 1:30 p.m. to 2:30 p.m. ET.

• Thursday, July 28, 2022, from 1:30 p.m. to 2:30 p.m. ET.

• Thursday, August 11, 2022, from 1:30 p.m. to 2:30 p.m. ET.

Dated: July 27, 2022.
Shabnaum Q. Amjad,
Deputy Associate Chief Counsel, Regulatory Affairs Division, Office of Chief Counsel, Federal Emergency Management Agency.

[FR Doc. 2022-16486 Filed 8-1-22; 8:45 am]

BILLING CODE 9111-19-P